DEPARTMENT OF TRANSPORTATION

National Highway Traffic Safety Administration

Retooling Recalls Workshop

AGENCY: National Highway Traffic Safety Administration (NHTSA), Department of Transportation (DOT).

ACTION: Announcement of public workshop.

SUMMARY: The National Highway Traffic Safety Administration (NHTSA) is announcing a workshop that will be held in Washington, DC on April 28, 2015 to discuss options to improve vehicle safety recall completion rates. The workshop will include brief NHTSA presentations outlining recent agency activities aimed at improving recall completion rates as well as recent examples of steps vehicle manufacturers have taken. Information on the date, time, location, and framework for this public event is included in this notice. Attendance requires prior registration; there will be no registration at the door. There are no fees to register or to attend this event.

DATES: The workshop will be held on April 28, 2015, at the location indicated in the ADDRESSES section below. The workshop will start at 9:00 a.m. and is scheduled to continue until 5:00 p.m., local time. If you would like to register to attend the workshop, please contact the person identified under FOR FURTHER INFORMATION CONTACT no later than April 21, 2015. Registrations may be accepted after that date, space permitting.

ADDRESSES: The April 28, 2015 workshop will be held in the Media Center of the U.S. Department of Transportation, 1200 New Jersey Avenue SE., Washington, DC 20590.

FOR FURTHER INFORMATION CONTACT: If you would like to attend the workshop, please contact Heather Laca by the date specified under DATES section above, at: Telephone (202) 366-2775; email address: heather.laca@dot.gov. Please provide her with the following information: Name, title, affiliation, address, email address, and telephone number, and indicate whether you require accommodations such as a sign language interpreter or translator. If you are not a U.S. citizen, also provide your country of citizenship, date of birth, title or position, and passport or diplomatic ID number, along with expiration date.

SUPPLEMENTARY INFORMATION: NHTSA is hosting a public workshop to discuss options to improve vehicle safety recall completion rates.

NHTSA marked a record year in 2014, with the highest number of vehicle recalls in more than three decades. Last year alone, there were 803 vehicle recalls involving 63.9 million vehicles, including two of the largest vehicle recalls in history.

The sessions will focus on public education of the recall process; customer and dealership outreach; parts production challenges and recall repair rates. The input gathered by the working groups will be used to identify best practices and new approaches for improving the recall process.

Workshop Procedures. NHTSA will conduct the workshop informally. Thus, technical rules of evidence will not apply. The workshop will include brief presentations and panel discussions with representatives from NHTSA, automobile manufacturers, suppliers, and dealers. There will be opportunities for attendees to ask questions of NHTSA and of the panelists.

To attend this workshop, please register with NHTSA by the date specified under the DATES section above by sending the required information to the person listed in the FOR FURTHER INFORMATION CONTACT section. Registration is necessary for security and space limitation reasons. After registration, NHTSA will send attendees follow-up information regarding workshop day logistics (i.e., directions to the building, parking accommodations, etc.).

For security purposes, photo identification is required to enter the Department of Transportation building. To allow sufficient time to clear security and enter the building, NHTSA recommends that workshop participants arrive 30 to 60 minutes prior to the start of the event.

Authority: 49 U.S.C. 30118-30120; 49 U.S.C. 30181-30182; 49 CFR 573 and 577.

Dated: April 3, 2015.
Mark R. Rosekind,
Administrator.

[FR Doc. 2015-08257 Filed 4-9-15; 8:45 am]

BILLING CODE 4910-59-P